DEPARTMENT OF ENERGY

Federal Energy Regulatory Commission

[Docket No. RP01-377-001]

Northern Border Pipeline Company; Notice of Compliance Tariff Filing

June 5, 2001.

Take notice that on May 31, 2001 Northern Border Pipeline Company (Northern Border) tendered for filing to become part of Northern Border's FERC Gas Tariff, First Revised Volume No. 1, First Revised Sheet Number 300H.02 and First Revised Sheet Number 300H.03 to become effective May 17, 2001.

Northern Border states that the purpose of this filing is to comply with the Commission's order dated May 16, 2001, 95 FERC ¶ 61, 207, wherein the Commission directed Northern Border to file tariff sheets to incorporate a five year cap on matching negotiated rate bids for ROFR capacity, state clearly how negotiated rate bids will be evaluated consistent with Commission policy, and specify in it's tariff that Northern Border will maintain separate and identifiable accounts for negotiated rate transactions as required by the Commission's Policy Statement.

Northern Border states that copies of this filing have been sent to all parties of record in this proceeding.

Any person desiring to protest said filing should file a protest with the Federal Energy Regulatory Commission, 888 First Street, NE., Washington, DC 20426, in accordance with section 385.211 of the Commission's Rule and Regulations. All such protests must be filed in accordance with section 154.210 of the Commission's Regulations. Protests will be considered by the Commission's in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doobell.htm.

David P. Boergers,
Secretary.

[FR Doc. 01-14552 Filed 6-8-01; 8:45 am]

BILLING CODE 6717-01-M